CONSUMER FINANCIAL PROTECTION BUREAU

12 CFR CH. X

Semiannual Regulatory Agenda

AGENCY: Consumer Financial Protection Bureau.

ACTION: Semiannual Regulatory Agenda.

SUMMARY: The Consumer Financial Protection Bureau (CFPB) is publishing this agenda as part of the Spring 2025 Unified Agenda of Federal Regulatory and Deregulatory Actions. The CFPB reasonably anticipates having the regulatory matters identified below under consideration during the period from June 2025 to May 2026. The next agenda will be published in Fall 2025 and will update this agenda through Fall 2026. Publication of this agenda is in accordance with the Regulatory Flexibility Act (5 U.S.C. 601 et seq.).

DATES: This information is current as of April 21, 2025.

ADDRESSES: Consumer Financial Protection Bureau, 1700 G Street NW, Washington, DC 20552.

FOR FURTHER INFORMATION CONTACT: A staff contact is included for each regulatory item listed herein. If you require this document in an alternative electronic format, please contact CFPB_Accessibility@cfpb.gov.

SUPPLEMENTARY INFORMATION: The CFPB is publishing its Spring 2025 Agenda as part of the Spring 2025 Unified Agenda of Federal Regulatory and Deregulatory Actions, which is coordinated by the Office of Management and Budget (OMB) under Executive Order 12866.¹ The agenda lists the regulatory matters that the CFPB reasonably anticipates, as of April 21, 2025, that it will have under consideration during the period from June 2025 to May 2026, as described further below.² The complete Unified Agenda is available to the public at the following website: https://www.reginfo.gov.

The CFPB is under interim leadership pending the confirmation of a permanent director, and is carefully considering various sources in setting its future priorities. This Agenda largely focuses on the updating of certain projects from the Fall 2024 Agenda, reconsideration of certain recently completed rulemakings, as well as limited new additions. For example, this Agenda reflects that the CFPB is now considering rulemaking or other activities, such as a Request for Information, regarding unfair, deceptive, or abusive acts or practices under section 1031 of the Dodd-Frank Wall Street Reform and Consumer Protection Act, Public Law 111-203, 124 Stat. 1376. The CFPB has also added a new entry to the Agenda's long-term section related to rules that require mortgage lenders to determine consumers' ability-to-repay loans and define certain “qualified mortgages” that are presumed to comply with statutory requirements. The CFPB expects to continue to refine its priorities and provide additional information in its Fall 2025 Unified Agenda of Federal Regulatory and Deregulatory Actions.

Consistent with procedures established by OMB's Office of Information and Regulatory Affairs,³ the CFPB's active agenda is divided into five sections: pre-rule stage; proposed rule stage; final rule stage; long-term actions; and completed actions. Generally, the pre-rule through final rule stages sections list items the CFPB plans to issue within the next 12 months. The long-term actions are listed for informational purposes if a regulatory action is anticipated beyond that one-year time frame. Completed actions are those that have been published as final or are withdrawn.

Lisa Cole,
Acting Assistant Director, Office of Regulations, Consumer Financial Protection Bureau.

Consumer Financial Protection Bureau—Completed Actions
Sequence No. | Title | Regulation Identifier No.
192 | Protecting Consumer Information in the Consumer Reporting Marketplace (Regulation V) | 3170-AB27

Consumer Financial Protection Bureau (CFPB) | Completed Actions

192. PROTECTING CONSUMER INFORMATION IN THE CONSUMER REPORTING MARKETPLACE (REGULATION V) [3170-AB27]

Legal Authority: 15 U.S.C. 1681, et seq.

Abstract: On May 15, 2025, the CFPB withdrew its December 2024 notice of proposed rulemaking (NPRM) requesting comment on the CFPB's proposal to amend Regulation V, which implements the Fair Credit Reporting Act (FCRA). The proposed rule would have implemented the FCRA's definitions of consumer report and consumer reporting agency as well as certain of the FCRA's provisions governing when consumer reporting agencies may furnish, and users may obtain, consumer reports. The CFPB has determined that legislative rulemaking is not necessary or appropriate at this time to address the subject matter of the NPRM. When and if the CFPB determines it necessary to issue a rule implementing the relevant definitions and provisions of the FCRA, it will propose a new rule and seek public comment thereon.

¹ The CFPB publishes this Unified Agenda pursuant to Executive Order 14215 of February 18, 2025, Ensuring Accountability for All Agencies, 90 FR 1044 (Feb. 24, 2025).

² The listing does not include certain routine, frequent, or administrative matters. The CFPB is reporting information for this Unified Agenda in a manner consistent with past practice.

Timetable:

Action | Date | FR Cite
NPRM | 12/13/24 | 89 FR 10142
NPRM Comment Period End | 03/03/25
Comment Period Extended | 03/05/25 | 90 FR 11236
NPRM Comment Period End | 04/02/25
Withdrawn | 05/15/25 | 90 FR 20568

Regulatory Flexibility Analysis Required: Yes

³ See https://www.reginfo.gov/public/jsp/eAgenda/UA_About.myjsp.

Agency Contact: Laura Stack, Office of Regulations, Consumer Financial Protection Bureau, 1700 G Street, NW, Washington, DC 20552

Phone: 202 435-7700

RIN: 3170-AB27

[FR Doc. 2025-18317 Filed 9-19-25; 8:45 am]

BILLING CODE 4810-AM-P